DEPARTMENT OF THE INTERIOR

Fish and Wildlife Service

[FWS-R1-R-2010-N131; 1265-0000-10137-S3]

Protection Island and San Juan Islands National Wildlife Refuges, Jefferson, Island, San Juan, Skagit, and Whatcom Counties, WA

AGENCY: Fish and Wildlife Service, Interior.

ACTION: Notice of availability: draft comprehensive conservation plan, draft wilderness stewardship plan, and environmental assessment; request for comments.

SUMMARY: We, the U.S. Fish and Wildlife Service (Service), announce the availability of our draft comprehensive conservation plan (CCP), draft wilderness stewardship plan (WSP), and environmental assessment (EA) for Protection Island and San Juan Islands National Wildlife Refuges (NWRs, Refuges) for public review and comment. The Draft CCP/WSP/EA describes our alternatives, including our preferred alternative, for managing the Refuges for the 15 years following approval of the final CCP/WSP.

DATES: To ensure consideration, please send your written comments by September 17, 2010.

ADDRESSES: You may submit comments, requests for more information, or requests for copies of the Draft CCP/WSP/EA by any of the following methods.

E-mail: FW1PlanningComments@fws.gov. Include “Protection/San Juan Draft CCP” in the subject line.

Fax: Attn: Kevin Ryan, Project Leader, (360) 457-9778.

U.S. Mail: Kevin Ryan, Project Leader, Washington Maritime National Wildlife Refuge Complex, 715 Holgerson Drive, Sequim, WA 98382.

FOR FURTHER INFORMATION CONTACT: Kevin Ryan, Project Leader, (360) 457-8451.

SUPPLEMENTARY INFORMATION:

Introduction

Protection Island NWR is located in the Strait of Juan de Fuca near the entrance to Discovery Bay in Jefferson County, Washington. It includes 659 acres of land and tideland. Protection Island NWR was established to provide habitat for a diversity of birds with particular emphasis on nesting bald eagles and seabirds, as well as to protect the hauling-out area for marine mammals. It has one of the largest colonies of rhinoceros auklets in North America. The Refuge also provides opportunities for scientific research and wildlife-oriented education and interpretation.

Most of the San Juan Islands NWR consists of rocks, reefs, and islands scattered throughout the San Juan Archipelago. Two islands, Smith and Minor, are located south of the archipelago within the Strait of Juan de Fuca. The Refuge consists of approximately 449 acres in Island, San Juan, Skagit, and Whatcom Counties, Washington. Most (353 acres) of San Juan Islands NWR is also designated wilderness known as the San Juan Islands Wilderness Area. San Juan Islands NWR was established to facilitate management of migratory birds, including serving as a breeding ground and winter sanctuary for native birds. It was also intended to be a refuge for other wildlife. This Refuge is particularly important to breeding black oystercatchers, cormorants, and harbor seals.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge System Administration Act.

Public Outreach

We began public outreach by publishing a Notice of Intent in the Federal Register on August 14, 2007 (72 FR 45444), announcing our intent to complete a CCP/EA and inviting public comments. In October 2007, we distributed Planning Update 1, which included background information on the Refuges, preliminary issues and goals, and a mail-in comment form. In the later part of 2007 and first half of 2008, Refuge and regional office staff held meetings with other Federal agencies, State agencies, county-based Marine Resource Committees, the research community, and nongovernmental organizations. In August 2008, we distributed Planning Update 2, which included the results of initial scoping, preliminary management options, and an invitation to the public open house meetings. The open house public meetings were held on September 23 and 24, 2008, in Friday Harbor and Port Townsend, Washington, respectively. We presented preliminary management options and obtained public comments at these meetings.

Draft CCP/WSP/EA Alternatives We Are Considering

We identified and evaluated three alternatives for managing the Refuges, including current management (Alternative A). Brief descriptions of the alternatives follow.

Alternative A (Current Management)

Under Alternative A, the Refuges would continue with current management, which focuses on stewardship, including removing unnecessary roads and human structures; allowing natural processes to occur with minimal human intervention; monitoring wildlife species; and working with partners to reduce the risk of oil spills, clean up marine debris, and educate boaters to minimize human-caused wildlife disturbance. Protection Island NWR would continue to be closed to the general public. Scientific research activities on Protection Island would continue with an emphasis on existing long-term partnerships. Recreational activities, including wildlife observation, photography, and camping on Turn and Matia Islands within the San Juan Islands Refuge, would continue as they have in the past and be facilitated through a State Parks partnership.

Alternative B (Preferred Alternative)

This alternative would continue many of the activities in Alternative A, and would include more active habitat management projects, such as removing deer from Protection Island to enhance seabird nesting habitat and forest habitat; restoration projects on the spits, grasslands, and forests to increase native plant diversity; and the facilitation of new research and monitoring studies and partnerships to find answers to Refuge management questions. Public use changes include prohibiting pets on all Refuge lands and closing some areas on Turn Island, including all of the rocky shoreline to the east and the southeast beach as well as most of the island's interior. Overnight camping on Turn and Matia Islands would be limited to visitors arriving by human-powered craft, and a camping reservation system would be initiated. There would be more emphasis on enhancing the public's understanding and appreciation of the Refuges' natural, cultural, and wilderness resources through both on- and off-Refuge interpretation and education programs. There would be fewer large signs but more medium-sized signs installed on San Juan Islands Refuge units to discourage close approach or trespassing on closed islands. There would also be more emphasis on working with existing partners and developing new partnerships to accomplish objectives.

Alternative C

This Alternative is very similar to Alternative B; the primary differences are fewer acres of native habitat restoration, as well as less research and fewer monitoring studies and surveys. Camping would continue with fewer campsites on Matia Island, and Turn Island would be limited to day-use only. Compared to Alternative B, fewer and mostly smaller signs would be used in Alternative C to identify closed Refuge islands and reduce human-caused wildlife disturbance.

Public Availability of Documents

In addition to any methods in ADDRESSES, you can obtain a CD-ROM copy of the Draft CCP/WSP/EA from the Refuge by calling (360) 457-8451. Copies may be reviewed at the Refuge and on the Internet at http://www.fws.gov/pacific/planning/main/docs/WA/docsprotectionIs.htm. Printed copies will be available for review at the following libraries in northwestern Washington: Anacortes Public Library, Bellingham Public Library, Clinton Public Library, Coupeville Public Library, Evergreen State College Library, Island Public Library, Jefferson County Central Library, Lopez Island Public Library, North Olympic Public Library, Oak Harbor Public Library, Orcas Island Public Library, Peninsula College Library, San Juan Islands Library, Shaw Island Library, University of Puget Sound Library, University of Washington Library, and Waldron Island Library.

Next Steps

After this comment period ends, we will analyze the comments and address them in the final CCP/WSP and decision document.

Public Availability of Comments

Before including your address, phone number, e-mail address, or other personal identifying information in your comment, you should be aware that your entire comment—including your personal identifying information—may be made publicly available at any time. While you can ask us in your comment to withhold your identifying information from the public, we cannot guarantee that we will be able to do so.

Dated: July 2, 2010.
Carolyn A. Bohan,
Regional Director, Region 1, Portland, Oregon.

[FR Doc. 2010-20542 Filed 8-17-10; 8:45 am]

BILLING CODE 4310-55-P